DEPARTMENT OF HEALTH AND HUMAN SERVICES

Administration for Children and Families

Submission for OMB Review; Comment Request

Title: Project LAUNCH Cross-Site Evaluation.

OMB No.: 0970-0373.

Description: The Administration for Children and Families (ACF), U.S. Department of Health and Human Services, is collecting data as part of a cross-site evaluation of a Substance Abuse and Mental Health Services Administration (SAMHSA) initiative called Project LAUNCH (Linking Actions for Unmet Needs in Children's Health). Project LAUNCH promotes the healthy development and wellness of children ages birth to eight years. A total of 35 Project LAUNCH grantees are funded to improve coordination among child-serving systems, build infrastructure, and improve methods for providing services. Grantees implement a range of public health strategies to support young child wellness in a designated locality.

Grants were awarded in four cohorts. Three of these cohorts will end on a rolling basis over the next three years and one cohort of grantees was recently awarded and will end in five years.

Data for the cross-site evaluation of Project LAUNCH will be collected through: (1) Interviews conducted either via telephone or during site-visits to Project LAUNCH grantees, (2) semi-annual reports that will be submitted electronically on a web-based data reporting system, and (3) outcome data tables included in grantee specific end-of-year evaluation reports.

During either telephone interviews or the site visits, researchers will conduct interviews with Project LAUNCH service providers and collaborators in states/tribes and local communities of focus. Interviewers will ask program administrators questions about all Project LAUNCH activities, including: Infrastructure development; collaboration and coordination among partner agencies, organizations, and service providers; and development, implementation, and refinement of service strategies.

As part of the proposed data collection, Project LAUNCH staff will be asked to submit semi-annual electronic reports on state/tribal and local systems development and on services that children and families receive. The electronic data reports also will collect data about other Project LAUNCH-funded service enhancements, such as trainings, Project LAUNCH systems change activities, and changes in provider settings and practice. Information provided in these reports will be aggregated on a quarterly basis, and reported semi-annually.

As a final part of the proposed data collection, the cross-site evaluation will utilize outcome data provided by grantee evaluators as part of their end-of-year evaluation reports to the SAMHSA. Information provided in these reports is aggregated.

Respondents: State/Tribal Child Wellness Coordinator, Local Child Wellness Coordinator, Chair of the State/Tribal Child Wellness Council (during site visit only), Chair of the Community Child Wellness Council, and Local Service Providers/Stakeholders.

Annual Burden Estimates
Instrument | Total number of respondents | Number of responses per respondent | Average burden hours per response | Total burden hours | Annual burden hours
Child Wellness Coordinator Interview Guide | 81 | 1 | 1.5 | 121.5 | 40.5
Chair of Local Child Wellness Council Interview Guide | 57 | 1 | 1 | 57 | 19
Local Stakeholder Interview Guide | 171 | 1 | .75 | 128.25 | 42.75
State Child Wellness Coordinator Interview Guide | 48 | 1 | 1.25 | 60 | 20
Chair of State Child Wellness Council Interview Guide¹ | 30 | 1 | 1.25 | 37.5 | 12.5
Electronic Data Reporting: Systems Measures | 81 | 2 | 4 | 648 | 216
Electronic Data Reporting: Services Measures | 81 | 2 | 8 | 1296 | 432
Outcomes Data Tables in End of Year Reports | 81 | 1 | 8 | 648 | 216
¹ There is no State Coordinator for Cohort 3 grantees. The total number of respondents is based on one response by one respondent for Cohorts 1, 2, and 4.

Estimated Total Annual Burden Hours: 998.75.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven M. Hanmer,
OPRE Reports Clearance Officer.

[FR Doc. 2013-13664 Filed 6-7-13; 8:45 am]

BILLING CODE 4184-22-P